OFFICE OF PERSONNEL MANAGEMENT

Comment Request for Review of a Revised Information Collection: OPM Online Form 1417

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for clearance of a revised information collection. OPM Online Form 1417, the Combined Federal Campaign (CFC) Information System form, collects information from the 302 local CFC campaigns to verify campaign results and collect contact information. Revisions to the form clarify OPM's request for campaign costs, solicitation data, prior-year receipts, and the inclusion of electronic fund information (EFT). Campaign EFT information is released only to Federal payroll providers for the proper and timely disbursement of aggregated donor pledges. OPM has routinely collected EFT information through e-mail.

We estimate 302 Online OPM Forms 1417 are completed annually. Each form takes approximately 20 minutes to complete. The annual estimated burden is 101 hours.

Comments are particularly invited on: Whether this information is necessary for the proper performance of functions of the Office of Personnel Management, and whether it will have practical utility; whether our estimate of the public burden of this collection of information is accurate, and based on valid assumptions and methodology; and ways in which we can minimize the burden of the collection of information on those who are to respond, through the appropriate use of technological collection techniques or other forms of information technology.

For copies of this proposal, contact Mary Beth Smith-Toomey on (202) 606-8358, FAX (202) 418-3251 or E-mail to mbtoomey@opm.gov. Please be sure to include a mailing address with your request.

DATES: Comments on this proposal should be received within 60 calendar days from the date of this publication.

ADDRESSES: Send or deliver comments to Cherlynn Stevens, CFC Operations, Office of CFC Operations, U.S. Office of Personnel Management, 1900 E Street, NW., Room 5450, Washington, DC 20415.

U.S. Office of Personnel Management.
Linda M. Springer,
Director.

[FR Doc. 05-22066 Filed 11-4-05; 8:45 am]

BILLING CODE 6325-46-P